DEPARTMENT OF TRANSPORTATION

Federal Railroad Administration

49 CFR Part 241

[FRA Docket No. FRA-2001-8728, Notice No. 2]

RIN 2130-AB38

U.S. Locational Requirement for Dispatching of U.S. Rail Operations

AGENCY: Federal Railroad Administration (FRA), Department of Transportation (DOT).

ACTION: Notice of public hearing.

SUMMARY: On December 11, 2001 (66 FR 63942), FRA published an Interim Final Rule (IFR) requiring all dispatching of railroad operations that occur in the United States to be performed in the United States with three minor exceptions. FRA is interested in receiving public comments on possible benefits and costs of this IFR and comments on whether FRA should adopt an alternative regulatory scheme under which extraterritorial dispatching of United States railroad operations would be permitted and, if so, under what conditions. In the IFR, FRA announced that it would schedule a public hearing to allow interested parties the opportunity to comment on these issues. This notice announces the scheduling of the public hearing.

DATES: Public Hearing: The date of the public hearing is Tuesday, February 12, 2002, at 10 a.m. in Washington, DC. Any person wishing to participate in the public hearing should notify the Docket Clerk by telephone (202-493-6030) or by mail at the address provided below at least five working days prior to the date of the hearing and submit to the Docket Clerk three copies of the oral statement that he or she intends to make at the hearing. The notification should identify the party the person represents, and the particular subject(s) the person plans to address. The notification should also provide the Docket Clerk with the participant's mailing address.

ADDRESSES: (1) Docket Clerk: Written notification should identify the docket number and must be submitted in triplicate to Ms. Ivornette Lynch, Docket Clerk, Office of Chief Counsel, Federal Railroad Administration, RCC-10, 1120 Vermont Ave., NW., Stop 10, Washington, DC 20590.

(2) Public Hearing: The public hearing will be held in the Department of Transportation Headquarters Building, 400 7th Street, SW., Rooms 3200-3204, Washington, DC 20590. Attendees should bring an identification card with photograph (such as a current driver's license), report to the security counter in the southwest quadrant of the DOT building for admission, and follow security procedures as provided at that location.

FOR FURTHER INFORMATION CONTACT: Douglas Taylor, Staff Director for Operating Practices, FRA Office of Safety, RRS-11, 1120 Vermont Avenue, NW., Stop 25, Washington, DC 20590 (telephone 202-493-6255); John Winkle, Trial Attorney, FRA Office of the Chief Counsel, RCC-12, 1120 Vermont Avenue, NW., Stop 10, Washington, DC 20590 (telephone 202-493-6067); or Billie Stultz, Deputy Assistant Chief Counsel, FRA Office of Chief Counsel, RCC-12, 1120 Vermont Avenue, NW., Stop 10, Washington, DC 20590 (telephone 202-493-6053 or 202-493-6029).

Issued in Washington, DC, on January 9, 2002.
Allan Rutter,
Federal Railroad Administrator.

[FR Doc. 02-1027 Filed 1-15-02; 8:45 am]

BILLING CODE 4910-06-P